DEPARTMENT OF ENERGY

Federal Energy Regulatory Commission

[Project No. 2489-049]

Green Mountain Power Corporation; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: P-2489-049.

c. Date filed: October 31, 2022.

d. Applicant: Green Mountain Power Corporation.

e. Name of Project: Cavendish Hydroelectric Project.

f. Location: On the Black River, in the town of Cavendish, in Windsor County, Vermont. The project does not occupy any federal land.

g. Filed Pursuant to: Federal Power Act 16 U.S.C. 791 (a)-825(r).

h. Applicant Contact: John Greenan, Green Mountain Power Corporation, 2152 Post Road, Rutland, VT 05701; Phone at (802) 770-2195, or email at John.Greenan@greenmountainpower.com.

i. FERC Contact: Adam Peer at (202) 502-8449 or email at adam.peer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 30, 2022.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Cavendish Hydroelectric Project (P-2489-049).

m. The application is not ready for environmental analysis at this time.

n. The existing Cavendish Project consists of: (1) a 3,000 foot-long, 10-acre impoundment with a gross storage capacity of 18.4-acre-feet at a normal water surface elevation of 884.13 feet National Geodetic Vertical Datum of 1929 (NGVD 29); (2) a 111-foot-long concrete gravity dam that consists of: (a) a 90-foot-long by 25-foot-high north spillway section topped with a 6-foot-high inflatable flashboard system; and (b) a 21-foot-long by 6-foot-high south spillway section topped with 2.5-foot-high steel flashboards; (3) an 18-inch wide downstream fish passage chute located on the north side of the spillway; (4) a concrete intake structure equipped with a mechanically operated headgate, and a trash rack with 2-inch clear bar spacing; (5) a 178-foot-long concrete and rock tunnel that carries flows from the intake to a penstock; (6) a 6-foot-diameter, 1,090-foot-long steel penstock; (7) a 64-foot-long by 34-foot-wide powerhouse containing three turbine-generator units with a combined capacity of 1.44 megawatts; (8) a 100-foot-long transmission line that runs from the powerhouse to a substation within the project boundary; and (9) appurtenant facilities. The project creates a 1,570-foot-long bypassed reach of the Black River.

The current license requires Green Mountain Power Corporation to: (1) operate the project in run-of-river mode; (2) maintain the impoundment water level no lower than 6 inches below the crest of the flashboards; (3) release a continuous minimum flow of 10 cubic feet per second (cfs) to the bypassed reach; and (4) release downstream flows of at least 42 cfs from June 1 to September 30, at least 83 cfs from October 1 to March 31, and at least 332 cfs from April 1 to May 31 when refilling the impoundment after project maintenance or flashboard installation. If inflows are insufficient to meet the downstream flows during impoundment refill, Green Mountain Power Corporation is required to release 90 percent of instantaneous inflow through the turbines. The project generates about 4,864 megawatt-hours annually.

Green Mountain Power Corporation proposes to: (1) continue operating the project in run-of-river mode; (2) maintain a stable impoundment water level at the top of the flashboard crest; (3) continue releasing a continuous minimum flow of 10 cfs to the bypassed reach; and (4) release 90 percent of instantaneous inflow through the turbines at all times when refilling the impoundment. Green Mountain Power Corporation also proposes to modify the penstock geometry and replace the three existing turbines.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2489). For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule and final amendments: The application will be processed according to the following preliminary schedule. Revisions to the schedule will be made as appropriate.

Issue Deficiency Letter (if necessary)—January 2022

Request Additional Information—January 2022

Issue Acceptance Letter—May 2022

Issue Scoping Document 1 for comments—May 2023

Issue Scoping Document 2 (if necessary)—July 2023

Issue Notice of Ready for Environmental Analysis—July 2023

Final amendments to the application must be filed with the Commission no later than 30 days from the issuance date of the notice of ready for environmental analysis.

Dated: November 4, 2022.
Kimberly D. Bose,
Secretary.

[FR Doc. 2022-24531 Filed 11-9-22; 8:45 am]

BILLING CODE 6717-01-P